DEPARTMENT OF LABOR

Office of the Secretary

Agency Information Collection Activities; Submission for OMB Review; Comment Request; Impact Evaluation of the YouthBuild Program

ACTION: Notice.

SUMMARY: The Department of Labor (DOL) is submitting the Employment and Training Administration (ETA) sponsored proposal for a new information collection titled, “Impact Evaluation of the YouthBuild Program,” to the Office of Management and Budget (OMB) for review and approval for use in accordance with the Paperwork Reduction Act (PRA) of 1995 (44 U.S.C. 3501 et seq.).

DATES: Submit comments on or before December 5, 2011.

ADDRESSES: A copy of this Information Collection Request (ICR) with applicable supporting documentation; including a description of the likely respondents, proposed frequency of response, and estimated total burden may be obtained from the RegInfo.gov Web site, http://www.reginfo.gov/public/do/PRAMain, on the day following publication of this notice or by contacting Michel Smyth by telephone at (202) 693-4129 (this is not a toll-free number) or sending an email to DOL_PRA_PUBLIC@dol.gov.

Submit comments about this request to the Office of Information and Regulatory Affairs, Attn: OMB Desk Officer for the Department of Labor, Employment and Training Administration (ETA), Office of Management and Budget, Room 10235, Washington, DC 20503, Telephone: (202) 395-6929/Fax: (202) 395-6881 (these are not toll-free numbers), email: OIRA_submission@omb.eop.gov.

FOR FURTHER INFORMATION: Contact Michel Smyth by telephone at (202) 693-4129 (this is not a toll-free number) or by email at DOL_PRA_PUBLIC@dol.gov.

SUPPLEMENTARY INFORMATION: This ICR seeks OMB approval under the PRA for an initial information collection in support of an impact evaluation of the YouthBuild Program. Specifically, the DOL seeks to conduct a census survey of all 2011 DOL funded YouthBuild grantees and Corporation for National and Community Service funded grantees that do not also receive DOL funding. The impact evaluation of the YouthBuild Program is a seven-year experimental design impact evaluation. YouthBuild is a youth and community development program that addresses several core issues facing low-income communities: education, employment, crime prevention, leadership development, and housing. The program primarily serves high school dropouts and focuses on helping them attain a high school diploma or general educational development certificate and teaching them construction skills geared toward career placement. The evaluation will measure core program outcomes including educational attainment, postsecondary planning, employment, earnings, delinquency, and involvement with the criminal justice system, and youth social and emotional development. The evaluation represents an important opportunity for the DOL to add to the growing body of knowledge about the impacts of second-chance programs for youth who have dropped out of high school, including outcomes related to educational attainment, postsecondary planning, employment, earnings, delinquency, and involvement with the criminal justice system, and youth social and emotional development.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6. For additional information, see the related notice published in the Federal Register on May 11, 2011 (76 FR 27363).

Interested parties are encouraged to send comments to the OMB, Office of Information and Regulatory Affairs at the address shown in the ADDRESSES section within 30 days of publication of this notice in the Federal Register. In order to help ensure appropriate consideration, comments should mention ICR Reference Number 201108-1205-005. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Title of Collection: Impact Evaluation of the YouthBuild Program.

ICR Reference Number: 201108-1205-005.

Affected Public: Private Sector—Not for-profit institutions.

Total Estimated Number of Respondents: 114.

Total Estimated Number of Responses: 114.

Total Estimated Annual Burden Hours: 57.

Total Estimated Annual Other Costs Burden: $0.

Dated: October 27, 2011.
Michel Smyth,
Departmental Clearance Officer.

[FR Doc. 2011-28470 Filed 11-2-11; 8:45 am]

BILLING CODE 4510-FN-P